DEPARTMENT OF COMMERCE

National Oceanic and Atmospheric Administration

[RTID 0648-XE958]

Marine Mammals; File No. 28728

AGENCY: National Marine Fisheries Service (NMFS), National Oceanic and Atmospheric Administration (NOAA), Commerce.

ACTION: Notice; issuance of permit.

SUMMARY: Notice is hereby given that a permit has been issued to Sea Shepherd Global (Daniel Villa, Responsible Party), 1217 South 9th Street, Tacoma, WA 98405 to conduct commercial and educational photography on marine mammals.

ADDRESSES: The permit and related documents are available for review upon written request via email to NMFS.Pr1Comments@noaa.gov.

FOR FURTHER INFORMATION CONTACT: Shasta McClenahan, Ph.D., or Amy Hapeman, (301) 427-8401.

SUPPLEMENTARY INFORMATION: On March 31, 2025, notice was published in the Federal Register (90 FR 14250) that a request for a permit had been submitted by the above-named applicant. The requested permit was issued on May 28, 2025 under the authority of the Marine Mammal Protection Act of 1972, as amended (16 U.S.C. 1361 et seq.), and the regulations governing the taking of marine mammals (50 CFR part 216).

The permit authorizes filming of 13 species of non-listed marine mammals in the Southern Ocean and Antarctica to collect footage and images for documentaries and other media. The permit is valid until April 30, 2030.

In compliance with the National Environmental Policy Act of 1969 (42 U.S.C. 4321 et seq.), a final determination has been made that the activity proposed is categorically excluded from the requirement to prepare an environmental assessment or environmental impact statement.

Dated: May 30, 2025.
Shannon Bettridge,
Chief, Marine Mammal and Sea Turtle Conservation Division, Office of Protected Resources, National Marine Fisheries Service.

[FR Doc. 2025-10233 Filed 6-4-25; 8:45 am]

BILLING CODE 3510-22-P